DEPARTMENT OF ENERGY

Federal Energy Regulatory Commission

[Docket No. EC05-92-000, et al.]

Cottonwood Energy Company LP, et al.; Electric Rate and Corporate Filings

June 10, 2005.

The following filings have been made with the Commission. The filings are listed in ascending order within each docket classification.

1. Cottonwood Energy Company LP, Magnolia Energy LP, Redbud Energy LP, Baja California Power, Inc., La Rosita Energy B.V., InterGen Aztec Energy III B.V.

[Docket No. EC05-92-000]

Take notice that on June 3, 2005, Cottonwood Energy Company LP, Magnolia Energy LP, Redbud Energy LP, Baja California Power, Inc., La Rosita Energy, B.V. and InterGen Aztec Energy III B.V. (the Applicants) submitted an application pursuant to section 203 of the Federal Power Act for authorization of a disposition of jurisdictional facilities related to the corporate reorganization of Royal Dutch Petroleum Company (N.V. Koninklijke Nederlandsche Petroleum Maatschappij), a Netherlands company, and The Shell Transport & Trading Company, p.l.c., a United Kingdom company (together, the Shell Parents), which hold indirect upstream ownership interests in Applicants. The Applicants state that as a result of the proposed reorganization, the Shell Parents will become wholly-owned direct subsidiaries of a new parent company, which, in turn, will be owned by the existing shareholders of the Shell Parents.

Comment Date: 5 p.m. on June 24, 2005.

2. Reliant Energy Power Generation, Inc., Sempra Energy Power I

[Docket No. EC05-93-000]

Take notice that on June 3, 2005, Reliant Energy Power Generation, Inc. (REPG) and Sempra Energy Power I (SEP I) (collectively, Applicants) filed with the Commission a joint application pursuant to section 203 of the Federal Power Act for Commission approval of the transfer of indirect interests in jurisdictional facilities. Applicants state that the disposition involves the sale by REPG to SEP I of REPG's 50 percent membership interest in El Dorado Energy, LLC (El Dorado). Applicants further state that El Dorado owns and operates the El Dorado generating station, a nominally rated 480 MW electric generating facility located near Boulder City, Nevada, which is interconnected with the transmission system operated by the Nevada Power Company. Applicants request privileged treatment of Exhibit I, the Purchase and Sale Agreement between REPG and SEP I.

Comment Date: 5 p.m. on June 24, 2005.

3. PJM Interconnection, L.L.C.

[Docket No. ER05-1061-000]

Take notice that on June 1, 2005, PJM Interconnection, L.L.C. (PJM) submitted revisions to the PJM amended and restated operating agreement (operating agreement) concerning the confidentiality and scheduling and dispatch provisions of the Operating Agreement. PJM states that the proposed revisions expand the scope of sections 18.17.1(b) and 1.76(a) of the PJM OA, respectively, to enable the office of the interconnection to provide member confidential documents, data or other information to reliability coordinators that are responsible for overseeing electric system reliability operations of regions outside of the PJM service territory, and enable the office of the interconnection to recognize transmission constraints on all coordinated flowgates external to the PJM region. PJM requests an effective date of August 1, 2005.

PJM states that copies of this filing have been served on all PJM members and the utility regulatory commissions in the PJM region.

Comment Date: 5 p.m. on June 22, 2005.

4. California Independent System Operator Corporation

[Docket No. ER05-1081-000]

Take notice that on June 6, 2005, California Independent System Operator Corporation (CAISO) submitted Amendment No. 71 to its FERC Electric Tariff. CAISO states that Amendment No. 71 would modify the ISO Tariff in the following respects: (1) Adding a provision to allow the CAISO to disclose to the Commission confidential or commercially sensitive information when requested by the Commission during the course of an investigation or otherwise, without providing notice of the request to affected market participants in advance of the disclosure; and (2) adding a provision to allow the ISO to share critical operating information, system models and planning data to other Western Electricity Coordinating restrictions.

Comment Date: 5 p.m. on June 20, 2005.

Standard Paragraph

Any person desiring to intervene or to protest in any of the above proceedings must file in accordance with Rules 211 and 214 of the Commission's Rules of Practice and Procedure (19 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive email notification when a document is added to a subscribed docket(s). For assistance with any FERC Online service, please email FERCOnlineSupport@ferc.gov or call (866) 208-3676 (toll free). For TYY, call (202) 502-8659.

Linda Mitry,
Deputy Secretary.

[FR Doc. E5-3131 Filed 6-16-05; 8:45 am]

BILLING CODE 6717-01-P